DEPARTMENT OF ENERGY

Federal Energy Regulatory Commission

[Docket No. RR11-1-000; Docket No. RR11-1-001]

Nebraska Public Power District; Southwest Power Pool Regional Entity; Notice of Extension of Time

On April 8, 2011, the Midwest Reliability Organization (MRO) filed a motion for an extension of time to file comments in connection with the March 18, 2011 Petition of Nebraska Public Power District (NPPD Petition) in Docket No RR11-1-000. In its motion, MRO notes that on March 21, 2010 the Commission issued a formal notice of the NPPD Petition establishing a comment deadline of April 18, 2011. MRO also notes that the Southwest Power Pool Regional Entity filed a petition (SPP RE Petition) on March 31, 2010 in Docket No. RR11-1-001 and that the Commission issued a formal notice of the SPP RE Petition establishing a comment deadline on April 21, 2011, which is three days after responses are due to the NPPD Petition. MRO states that the NPPD Petition and the SPP RE Petition stem from a common set of facts, and SPP RE's Petition raises issues that are very similar to those in the NPPD Petition. MRO also states that the current three day difference between the comment deadlines for each petition creates the potential for procedural unfairness and prejudice to MRO, as well as any other prospective participant who may oppose both petitions.

Upon consideration, notice is hereby given that an extension of time for filing motions to intervene and comments concerning the NPPD Petition is granted to and including April 21, 2011.

Dated: April 13, 2011.
Kimberly D. Bose,
Secretary.

[FR Doc. 2011-9371 Filed 4-18-11; 8:45 am]

BILLING CODE 6717-01-P